DEPARTMENT OF LABOR

Office of the Secretary

Submission for OMB Review: Comment Request

February 13, 2009.

The Department of Labor (DOL) hereby announces the submission of the following public information collection requests (ICR) to the Office of Management and Budget (OMB) for review and approval in accordance with the Paperwork Reduction Act of 1995 (Pub. L. 104-13, 44 U.S.C. chapter 35). A copy of each ICR, with applicable supporting documentation; including among other things a description of the likely respondents, proposed frequency of response, and estimated total burden may be obtained from the RegInfo.gov Web site at http://www.reginfo.gov/public/do/PRAMain or by contacting Mary Beth Smith-Toomey on 202-693-4223 (this is not a toll-free number) / e-mail: DOL_PRA_PUBLIC@dol.gov .

Interested parties are encouraged to send comments to the Office of Information and Regulatory Affairs, Attn: OMB Desk Officer for the Department of Labor—ESA, Office of Management and Budget, Room 10235, Washington, DC 20503, Telephone: 202-395-7316/Fax: 202-395-6974 (these are not toll-free numbers), E-mail: OIRA_submission@omb.eop.gov within 30 days from the date of this publication in the Federal Register. In order to ensure the appropriate consideration, comments should reference the OMB Control Number (see below).

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Employment Standards Administration.

Type of Review: Extension without change of a currently approved collection.

Title of Collection: Request to be Selected as Payee.

OMB Control Number: 1215-0166.

Agency Form Number: CM-910.

Affected Public: Individuals and Households.

Total Estimated Number of Respondents: 2,500.

Total Estimated Annual Burden Hours: 625.

Total Estimated Annual Costs Burden: $1,125.

Description: The Form CM-910, Request to be Selected as Payee, is used to obtain information about prospective representative payees to determine whether they are qualified to handle monetary benefits on behalf of the beneficiary under the Black Lung Benefits Act. For additional information, see related notice published at Volume 73 FR 61171 on October 15, 2008.

Agency: Employment Standards Administration.

Type of Review: Extension without change of a currently approved collection.

Title of Collection: Employment Under Special Certificates of Apprentices, Messengers and Learners (including Student Learners).

OMB Control Number: 1215-0192.

Agency Form Numbers: WH-205 and WH-209.

Affected Public: Private Sector—Businesses or other for-profits and Not-for-profit institutions.

Total Estimated Number of Respondents: 700.

Total Estimated Annual Burden Hours: 350.

Total Estimated Annual Costs Burden: $ 0.

Description: Employers who want to employ messengers/apprentices/learners at subminimum wages under the provisions of section 14(a) of the Fair Labor Standards Act must submit an application to the Department of Labor for authorization. Applications and records are reviewed by the Department of Labor to determine whether statutory and regulatory requirements have been met. For additional information, see related notice published at Volume 73 FR 58667 on October 7, 2008.

Darrin A. King,
Departmental Clearance Officer.

[FR Doc. E9-3628 Filed 2-19-09; 8:45 am]

BILLING CODE 4510-CK-P